DEPARTMENT OF HEALTH AND HUMAN SERVICES

Administration for Children and Families

Proposed Information Collection Activity; Comment Request

Title: Evaluation of the Family Unification Program.

OMB No.: New Collection.

Description: The Administration for Children and Families (ACF) is proposing an information collection activity to assess the impact, through rigorous evaluation, of participation in the Family Unification Program (FUP) on child welfare involvement and child maltreatment. The Department of Housing and Urban Development (HUD) funds and administers FUP. Through the program, vouchers are provided to families for whom the lack of adequate housing is a primary factor in (a) the imminent placement of the family's child, or children, in out-of-home care or (b) the delay in the discharge of the child, or children, to the family from out-of-home-care. The program aims to prevent children's placement in out-of-home care, promote family reunification for children placed in out-of-home care, and decrease new reports of abuse and neglect. Vouchers may also be provided to youth transitioning from foster care who do not have adequate housing, although this population is not the focus of this evaluation.

The evaluation will contribute to understanding the effects of FUP on project participants' child welfare involvement. The evaluation will be conducted in approximately ten sites, with random assignment of FUP-eligible families to program and control groups. The evaluation consists of both an impact study and an implementation study. Data collection for the impact study will be exclusively through administrative data. Data collection for the implementation study will be through site visits and collection of program data. Data collection activities will span 3 years.

Implementation study data collection will occur at three points in time: (1) Prior to the implementation (“preliminary”), (2) 6-9 months into the implementation (“first”), and (3) 18-21 months into implementation (“follow-up”) time periods. Semi-structured interviews will be conducted with agency/organization management (preliminary, first) and FUP management (first, follow-up), and focus groups will be conducted with front-line staff (first, follow-up). Program data, including a referral form and questionnaires regarding housing assistance and other services, will be collected through forms completed by frontline staff. FUP management staff will also complete an online randomization tool and a form (“dashboard”) to facilitate monitoring of the evaluation.

This evaluation is part of a larger project to help ACF build the evidence base in child welfare through rigorous evaluation of programs, practices, and policies. It will also contribute to HUD's understanding of how housing can serve as a platform for improving quality of life.

Respondents: Public housing authority staff, public child welfare agency staff, and other service provider staff.

Annual Burden Estimates
| Total number of respondents | Annual number of respondents | Number of responses per respondent | Average burden hour per response | Annual burden hours
Guide for Recruitment with PHA and PCWA Administrators | 20 | 7 | 1 | 1.00 | 7
Guide to Develop an Evaluation Plan for PCWA FUP Management | 10 | 4 | 1 | 1.00 | 4
Guide to Develop an Evaluation Plan for PHA FUP Management | 10 | 4 | 1 | 1.00 | 4
Guide for Implementation Study for PCWA Management | 10 | 4 | 1 | 1.00 | 4
Guide for Implementation Study for PHA Management | 10 | 4 | 1 | 1.00 | 4
Guide for Implementation Study for Referral Provider Administrators | 4 | 2 | 1 | 1.00 | 2
Guide for Implementation Study with PCWA FUP Management (First) | 10 | 4 | 1 | 1.00 | 4
Guide for Implementation Study for PHA FUP Management | 10 | 4 | 1 | 1.00 | 4
Guide for Implementation Study Focus Groups with Frontline Workers | 320 | 107 | 1 | 1.50 | 161
Guide for Implementation Study Focus Groups with PHA Frontline Workers | 30 | 10 | 1 | 1.50 | 15
Guide for Implementation Study for PCWA FUP Management (Follow Up) | 10 | 4 | 1 | 1.00 | 4
Guide for Implementation Study for Service Provider Management | 8 | 3 | 1 | 1.00 | 3
Referral Form | 200 | 67 | 6 | 0.17 | 68
Randomization Tool | 10 | 4 | 106 | 0.02 | 8
Housing Assistance Questionnaire | 200 | 67 | 3 | 0.09 | 18
Ongoing Services Questionnaire | 200 | 67 | 3 | 0.09 | 18
Dashboard | 20 | 7 | 27 | 0.17 | 32
Administrative Data List | 30 | 10 | 2 | 5.00 | 100

Estimated Total Annual Burden Hours: 460.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C St SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-28374 Filed 1-2-18; 8:45 am]

BILLING CODE 4184-25-P